SMALL BUSINESS ADMINISTRATION

Data Collection Available for Public Comments

ACTION: 60-day notice and request for comments.

SUMMARY: The Small Business Administration (SBA) intends to request approval from the Office of Management and Budget (OMB) for the collection of information described below. The Paperwork Reduction Act (PRA) of 1995 44 U.S.C Chapter 35 requires federal agencies to publish a notice in the Federal Register concerning each proposed collection of information before submission to OMB, and to allow 60 days for public comment in response to the notice. This notice complies with that requirement.

DATES: Submit comments on or before June 30, 2015.

ADDRESSES: Send all comments to Brittany Borg, Contracting Officer Representative, Office of Entrepreneurial Development, U.S. Small Business Administration, 409 3rd Street SW., Suite 6200, Washington, DC 20416.

FOR FURTHER INFORMATION CONTACT: Brittany Borg, Contracting Officer Representative, 202-401-1354, oedsurvey@sba.gov or Curtis B. Rich, Management Analyst, 202-205-7030, curtis.rich@sba.gov.

SUPPLEMENTARY INFORMATION: This is a request for the collection of new information.

In October 1 2014, the Small Business Administration (SBA)'s Office of Entrepreneurial Development (OED) began the ScaleUp America initiative to expand the delivery of proven best practices in entrepreneurship education to reach more growth-oriented small business owners. Through this initiative, organizations in eight communities across the U.S. have been selected to deliver targeted and intensive assistance to established, growth-oriented small businesses and entrepreneurs. ScaleUp program goals include the growth of participating businesses, the strengthening of local entrepreneurial ecosystems (e.g. the network of supportive resources available to the entrepreneur), and the creation of jobs and economic growth in targeted communities.

SBA is conducting an evaluation of the ScaleUp America initiative to assess the education services provided to the participants, the effect of the assistance on achieving the business goals of the participants, participant satisfaction with the assistance, and lessons learned and recommendations provided by the participants. Through the quarterly and annual reports provided by ScaleUp administrators, SBA has the ability to collect some data on the participants and program activities. However, in order to develop a more systematic analysis on the full range of topics mentioned above, including the participants' feedback, SBA needs to collect survey and interview data from participants who attended the program, as well as from individual entrepreneurs who are recruited as members of a community-specific comparison group.

Specifically, SBA proposes the use of four instruments for data collection and analysis. These instruments are: (1) Participant Intake Survey, (2) Comparison Group Member Intake Survey and (3) Participant Follow-up Survey. SBA plans to administer each of these survey instruments to more than nine individuals. In addition, SBA plans to interview two participants or community members in each of the eight ScaleUp communities regarding program impact and successes or challenges.

Each of the proposed surveys will be administered electronically and will contain both open- and close-ended questions. The types of information that will be collected in the instruments can be found in the “Summary of Information Collection” section below. Quantitative analysis (the primary method of data analysis for the survey data) and qualitative analysis (the primary method of data analysis for the interview data) will be used on the data collected. Quantitative analysis will consist of univariate and multivariate statistical analyses, while qualitative analysis will consist of establishing clear rules for interpretation and finding themes in the qualitative data. The information collected and analyzed from these instruments will contribute to performance metrics and program goals, as well as recommendations on improving program practices.

(a) Solicitation of Public Comments

SBA is requesting comments on (a) whether the collection of information is necessary for the agency to properly perform its functions; (b) whether the burden estimates are accurate; (c) whether there are ways to minimize the burden, including through the use of automated techniques or other forms of information technology; and (d) whether there are ways to enhance the quality, utility, and clarity of the information collected.

(b) Summary of Information Collection

Burden Estimates for ScaleUp Data Collection
| Number of:: Respondents | Number of:: Non-respondents | Burden per (minutes):: Respondents | Burden per (minutes):: Non-respondents | Total burden (hours)
Total | 880 | 1680 |  |  | 520.0
Participant intake survey | 272 | 0 | 20 | 0 | 90.7
Comparison group member intake survey | 320 | 1680 | 25 | 7 | 329.3
Participant follow-up survey | 272 | 0 | 20 | 0 | 90.7
ScaleUp and community member interviews | 16 | 0 | 35 | 5 | 9.3

Curtis B. Rich,
Management Analyst.

[FR Doc. 2015-10214 Filed 4-30-15; 8:45 am]

BILLING CODE 8025-01-P